DEPARTMENT OF COMMERCE

National Oceanic and Atmospheric Administration

Federal Consistency Appeal by Foothill/Eastern Transportation Corridor Agency

AGENCY: National Oceanic and Atmospheric Administration (NOAA), Department of Commerce (Commerce).

ACTION: Notice of appeal.

SUMMARY: This announcement provides notice that Foothill/Eastern Transportation Corridor Agency (TCA) has filed an administrative appeal with the Department of Commerce asking that the Secretary override the California Coastal Commission's (CCC) objection to TCA's construction of an extension to California State Route 241 in northern San Diego and southern Orange Counties, California.

ADDRESSES: Materials from the appeal record will be available at the NOAA Office of General Counsel for Ocean Services, 1305 East-West Highway, Room 6111, Silver Spring, MD 20910 and on the following Web site: http://www.ogc.doc.gov/czma.htm.

FOR FURTHER INFORMATION CONTACT: Thomas Street, Attorney-Advisor, NOAA Office of the General Counsel, 301-713-2967, gcos.inquiries@noaa.gov or Stephanie Campbell, Attorney-Advisor, NOAA Office of the General Counsel, 301-713-2967, gcos.inquiries@noaa.gov.

SUPPLEMENTARY INFORMATION:

I. Notice of Appeal

On February 15, 2008, TCA filed notice of an appeal with the Secretary of Commerce (Secretary), pursuant to the Coastal Zone Management Act of 1972 (CZMA), 16 U.S.C. 1451 et seq., and implementing regulations found at 15 CFR Part 930, Subpart H. TCA appealed an objection to its construction of an extension to California State Route 241 in northern San Diego and southern Orange Counties, California.

Under the CZMA, the Secretary may override CCC's objection on grounds that the project is consistent with the objectives or purposes of the CZMA or otherwise necessary in the interest of national security. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the CCC's coastal management program. 15 CFR 930.121.

II. Opportunity for Federal Agency and Public Comment and Public Hearing

Pursuant to regulation, the public and interested Federal agencies may submit any comments on this appeal from April 28, 2008—May 28, 2008. All comments should be directed in writing to the NOAA Office of General Counsel for Ocean Services, 1305 East-West Highway, Room 6111, Silver Spring, MD 20910 or via e-mail to gcos.comments@noaa.gov.

Federal regulations also allow for a public hearing for this appeal, occurring at the Secretary's own initiative or upon request. A request for a public hearing must be filed with the Secretary within 30 days of the date of this notice's publication in the Federal Register. Such requests should be directed in writing to the Secretary at the following address: Thomas Street, staff attorney, NOAA Office of General Counsel for Ocean Services, 1305 East-West Highway, Room 6111, Silver Spring, MD 20910.

III. Appeal Documents

NOAA intends to provide the public with access to all publicly available materials and related documents comprising the appeal record during business hours, at the NOAA Office of General Counsel for Ocean Services. For additional information about this appeal, please contact Thomas Street, Attorney-Advisor, NOAA Office of the General Counsel, 301-713-2967, gcos.inquiries@noaa.gov or Stephanie Campbell, Attorney-Advisor, NOAA Office of the General Counsel, 301-713-2967, gcos.inquiries@noaa.gov.

Dated: March 11, 2008.
Joel La Bissonniere,
Assistant General Counsel for Ocean Services.

[Federal Domestic Assistance Catalog No. 11.419 Coastal Zone Management Program Assistance.]

[FR Doc. E8-5247 Filed 3-14-08; 8:45 am]

BILLING CODE 3510-08-P